DEPARTMENT OF ENERGY

Federal Energy Regulatory Commission

Combined Notice of Filings # 1

April 14, 2010.

Take notice that the Commission received the following electric corporate filings:

Docket Numbers: EC10-60-000.

Applicants: New York State Electric & Gas Corp., Noble Wethersfield Windpark, LLC.

Description: Application of New York State Electric & Gas Corporation and Noble Wethersfield Windpark, LLC.

Filed Date: 04/14/2010.

Accession Number: 20100414-5114.

Comment Date: 5 p.m. Eastern Time on Wednesday, May 5, 2010.

Take notice that the Commission received the following electric rate filings:

Docket Numbers: ER10-226-003.

Applicants: Clean Currents, LLC.

Description: Clean Currents, LLC Change in Status Amendment.

Filed Date: 04/14/2010.

Accession Number: 20100414-5035.

Comment Date: 5 p.m. Eastern Time on Wednesday, May 5, 2010.

Docket Numbers: ER10-1043-000.

Applicants: ISO New England Inc., New England Power Pool.

Description: ISO New England Inc et al. submits transmittal letter and tariff sheets reflecting miscellaneous revisions to the ISO Financial Assurance Policy.

Filed Date: 04/13/2010.

Accession Number: 20100413-0217.

Comment Date: 5 p.m. Eastern Time on Tuesday, May 4, 2010.

Docket Numbers: ER10-1044-000.

Applicants: Cleco Power LLC.

Description: Cleco Power LLC submits amended versions of the Service Agreement for Network Transmission Services with Cleco Wholesale Energy Service that previously was accepted for filing etc.

Filed Date: 04/13/2010.

Accession Number: 20100413-0218.

Comment Date: 5 p.m. Eastern Time on Tuesday, May 4, 2010.

Docket Numbers: ER10-1045-000.

Applicants: PJM Interconnection, LLC.

Description: PJM Interconnection, LLC submits an executed interim interconnection service agreement with Meadow Lake Wind Farm II LLC et al.

Filed Date: 04/13/2010.

Accession Number: 20100414-0204.

Comment Date: 5 p.m. Eastern Time on Tuesday, May 4, 2010.

Docket Numbers: ER10-1046-000.

Applicants: Consolidated Edison Company of New York, Inc.

Description: Consolidated Edison Company of New York, Inc submits an amendment to Con Edison's Delivery Service Rate Schedule 96 et al.

Filed Date: 04/13/2010.

Accession Number: 20100414-0205.

Comment Date: 5 p.m. Eastern Time on Tuesday, May 4, 2010.

Docket Numbers: ER10-1047-000.

Applicants: Pacific Gas and Electric Company.

Description: Pacific Gas and Electric Company submits two executed agreements, Wholesale Distribution Tariff Service Agreement & a Generator Interconnection Agreement with Monterey Regional Waste Management District.

Filed Date: 04/14/2010.

Accession Number: 20100414-0217.

Comment Date: 5 p.m. Eastern Time on Wednesday, May 5, 2010.

Docket Numbers: ER10-1048-000.

Applicants: Commonwealth Edison Company.

Description: Commonwealth Edison Company submits tariff filing per 35.12: Baseline Tariff to be effective 4/14/2010.

Filed Date: 04/14/2010.

Accession Number: 20100414-5054.

Comment Date: 5 p.m. Eastern Time on Wednesday, May 5, 2010.

Docket Numbers: ER10-1049-000.

Applicants: Pacific Gas and Electric Company.

Description: Pacific Gas and Electric Company submits a Notice of Termination of the Etiwanda Exchange Agreement with California Department of Water Resources.

Filed Date: 04/14/2010.

Accession Number: 20100414-0218.

Comment Date: 5 p.m. Eastern Time on Wednesday, May 5, 2010.

Docket Numbers: ER10-1050-000.

Applicants: Pacific Gas and Electric Company.

Description: Pacific Gas and Electric Company submits a revised Appendix B to the Coordinated Operations and Interconnection Agreement with Atlantic Power Corp et al., effective June 14, 2010.

Filed Date: 04/14/2010.

Accession Number: 20100414-0219.

Comment Date: 5 p.m. Eastern Time on Wednesday, May 5, 2010.

Docket Numbers: ER10-1051-000.

Applicants: Pacific Gas and Electric Company.

Description: Pacific Gas and Electric Company submits a Notice of Cancellation of Rate Schedule FERC 219, the Generator Special Facilities Agreement with San Joaquin Cogen LLP etc., to become effective 6/14/10.

Filed Date: 04/14/2010.

Accession Number: 20100414-0220.

Comment Date: 5 p.m. Eastern Time on Wednesday, May 5, 2010.

Take notice that the Commission received the following open access transmission tariff filings:

Docket Numbers: OA07-39-006; OA08-71-006.

Applicants: Xcel Energy Services Inc.

Description: PSCo's Annual Report of Penalty Assessments and Distributions in Accordance with Order Nos. 890 and 890-A.

Filed Date: 04/14/2010.

Accession Number: 20100414-5079.

Comment Date: 5 p.m. Eastern Time on Wednesday, May 5, 2010.

Docket Numbers: OA08-52-008.

Applicants: New York Independent System Operator, Inc.

Description: New York Independent System Operator, Inc et al. submits revisions to Attachment Y of the Open Access Transmission Tariff.

Filed Date: 04/13/2010.

Accession Number: 20100414-0203.

Comment Date: 5 p.m. Eastern Time on Tuesday, May 4, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov or call (866) 208-3676 (toll free). For TTY, call (202) 502-8659.

Nathaniel J. Davis, Sr.,
Deputy Secretary.

[FR Doc. 2010-9266 Filed 4-21-10; 8:45 am]

BILLING CODE 6717-01-P